DEPARTMENT OF AGRICULTURE

Forest Service

Plumas National Forest; CA; Moonlight and Wheeler Fires Recovery and Restoration Project

AGENCY: Forest Service, USDA.

ACTION: Revised notice of intent to prepare a revised draft Environmental Impact Statement (EIS).

Introduction: A notice of intent to prepare an EIS for the Moonlight Fire Recovery and Restoration Project was published in the Federal Register on Monday, January 7, 2008 (Vol. 73, No.4, pp. 1201-1202). After scoping the Moonlight Fire and Wheeler Fire Recovery and Restoration Projects separately in December 2007, the Forest Service, Plumas National Forest, has merged the two projects together. In December 2007, the Mt. Hough Ranger District of the Plumas National Forest began the process to determine the scope (the depth and breadth) of the environmental analysis. At that time, it was anticipated that the Moonlight Fire Recovery and Restoration Project analysis would be documented in an EIS and the Wheeler Fire Recovery and Restoration Project analysis would be documented in an Environmental Assessment. From comments received, it was determined to document the analysis for both projects in one EIS. The new project name is Moonlight and Wheeler Fires Recovery and Restoration Project. A second notice of intent to prepare an ElS for the Moonlight and Wheeler Fires Recovery and Restoration Project was published in the Federal Register on Thursday, May 22, 2008 (Vol. 73, No. 100, pp. 29735-29736).

The Moonlight Safety and Roadside Hazard Tree Removal Project was a separate project identified to remove hazardous trees with structural defects likely to cause failure in all or part of the tree, which may fall and hit the road prism within the next three years. Moonlight Safety and Roadside Hazard Tree Removal Project was being analyzed utilizing a categorical exclusion (category 4) and overlapped with a portion of the Moonlight and Wheeler Fires Recovery and Restoration Project. From comments received, it was determined to document the analysis for both projects in one EIS. A revised draft EIS will be prepared as the purpose and need of this project will change, and the project name will remain Moonlight and Wheeler Fires Recovery and Restoration Project.

SUMMARY: The USDA, Forest Service, Plumas National Forest will prepare a revised EIS on a proposal to harvest dead trees on approximately 10,366 acres within the Moonlight Fire and Antelope Complex (includes Wheeler Fire) perimeters. The proposal also includes harvesting dead and dying hazard trees on 4,389 acres along National Forest System (NFS) roads in the Moonlight Fire perimeter. The Moonlight Fire and Antelope Complex burned about 88,000 acres between July and September 2007 on the Plumas National Forest.

DATES: The revised draft EIS is expected in February 2009. The revised final EIS is expected in April 2009. A decision is expected in May 2009.

ADDRESSES: Send written comments to Rich Bednarski, Interdisciplinary Team Leader, Mt. Hough Ranger District, 39696 Highway 70, Quincy, CA 95971. Comments may be: (1) Mailed; (2) hand delivered between the hours of 8 a.m. and 4:30 p.m. weekdays Pacific Time; (3) faxed to (530) 283-1821; or (4) electronically mailed to: comments-pacificsouthwestplumas-mthough@fs.fed.us.

Please indicate the name “Moonlight and Wheeler Fires Recovery and Restoration Project” on the subject line of your e-mail. Comments submitted electronically must be in Rich Text Format (.rtf), plain text format (.txt), or Word format (.doc).

FOR FURTHER INFORMATION CONTACT: Rich Bednarski, Interdisciplinary Team Leader, Mt. Hough Ranger District, 39696 Highway 70, Quincy, CA 95971. Telephone: (530) 283-7641 or electronic address: rbednarski@fs.fed.us.

SUPPLEMENTARY INFORMATION: The proposed action is designed to meet the standards and guidelines for land management activities in the Plumas National Forest Land and Resource Management Plan (1988), as amended by the Herger-Feinstein Quincy Library Group (HFQLG) Final Supplemental Environmental Impact Statement (FSEIS) and Record of Decision (ROD) (1999, 2003), and as amended by the Sierra Nevada Forest Plan Amendment FSEIS and ROD (2004). The proposed project is located in Plumas County, California, within the Mt. Hough Ranger District of the Plumas National Forest. The project is located in all or portions of: Sections 13, 23-27, 34-35, T28N, R1OE; sections 13-14, 17-19, 23-24, 29-34, T28N, R11E; sections 19-20, 29-32, T28N, R12E; sections 1-2, 13-14, 23-25, T27N, R1OE; sections 2-11, 13-15, 17, 19-22, 25, 35-36, T27N, Ri 1E; sections 5, 8, 17-20, 29-32, T27N, RI2E; sections 1-5, 9-12, 14-16, 21-23, and 26-27, T26N, R12E; sections 23-29 and 31-36, T27N, R12E; and sections 19, 20, and 30, T27N, R13E; Mount Diablo Meridian.

Purpose and Need for Action

The purposes of the project are: (1) To remove hazardous trees with structural defects likely to cause failure in all or part of the tree, which may fall and hit the road prism within the next three years; (2) to recover the value of the dead trees before natural deterioration occurs in the treatment areas; and (3) to re-establish forested conditions. The project would harvest dead and dying hazard trees that pose a safety hazard to the public along 120 miles of NFS roads within the Moonlight Fire perimeter; harvest dead merchantable trees before the economic value is lost to natural deterioration; and reforest specific areas within the Moonlight Fire and Antelope Complex perimeters.

Hazard trees need to be removed in a timely, efficient, and cost-effective manner so that access to affected areas can be restored and normal National Forest operations can resume. The wood quality, volume, and value of dead trees deteriorate rapidly. Given the rate of deterioration of the dead trees within the project area, there is an immediate need to recover the economic value. The National Forest Management Act (NFMA) sets policy to maintain appropriate forest cover in accordance with Forest plans and requires best effort to reforest within 5 years after harvest. As it relates to wildfires, it is Agency policy to consider post-fire salvage harvest the functional equivalent of a regeneration harvest and to make a best effort to recover forested conditions within 5 years after harvest.

Proposed Action

The proposed action would harvest dead and/or dying conifer trees on approximately 14,755 acres (10,366 acres of dead trees and 4,389 acres of dead and dying roadside hazard trees) using the following methods: Ground based, skyline, and helicopter. Dead trees greater than 14 inches diameter at breast height (dbh) would be whole tree harvested on the ground-based areas. Approximately 8,536 acres would have trees less than 14 inches dbh removed as biomass material. Ground-based equipment would be restricted to slopes less than 35 percent, except on decomposed granitic soils where equipment would be restricted to slopes less than 25 percent. On the skyline and helicopter areas, trees greater than 16 inches dbh would be harvested. Limbs and tops in skyline, helicopter, and ground-based units (not removed as biomass) would be lopped and scattered to a depth less than 18 inches in height. Skyline yarding would require one end suspension, with full suspension over intermittent or perennial streams. Dead conifers would be harvested from Riparian Habitat Conservation Areas (RHCAs). Equipment restriction zone widths within RHCAs would be established, based on the stream type and steepness of the slope adjacent to the streams. Snags would be retained in snag retention areas, which are approximately ten acres in size, within salvage units on approximately ten percent of the project area. Harvest activities would not occur within the snag retention areas except for operability (safety) reasons. Approximately 19 miles of temporary roads would be constructed. Approximately 30 acres of helicopter landings (fourteen) would be constructed. Excess fuels on landings would be piled, a fireline constructed around the piles, and the piles burned. Following completion of the project, temporary roads and landings would be subsoiled, reforested, and closed. Approximately 16,006 acres would be reforested with conifer seedlings in widely spaced clusters to emulate a naturally established forest. The areas would be reforested with a mixture of native species.

Possible Alternatives

In addition to the proposed action, four other alternatives would be analyzed, a no action alternative (alternative B), a ground-based only action alternative (alternative C), an action alternative consistent with the 2001 SNFPA ROD (alternative D), and a roadside hazard only action alternative (alternative E).

Lead and Cooperating Agencies

The USDA, Forest Service is the lead agency for this proposal.

Responsible Official

Alice B. Canton, Plumas National Forest Supervisor, PO Box 11500, Quincy, CA 95971.

Nature of Decision To Be Made

The decision to be made is whether to: (1) Implement the proposed action; (2) meet the purpose and need for action through some other combination of activities; or, (3) take no action at this time.

Scoping Process

Scoping is conducted to determine the significant issues that will be addressed during the environmental analysis. Comments that were received for the first draft EJS for Moonlight and Wheeler Fires Recovery and Restoration Project and for the categorical exclusion Moonlight Safety and Roadside Hazard Tree Removal Project will be considered in the combined analysis. Additional comments on the Moonlight and Wheeler Fires Recovery and Restoration Project will also be considered. Scoping comments will be most helpful if received by December 12, 2008.

Permits or Licenses Required

An Air Pollution Permit and a Smoke Management Plan are required by local agencies.

Early Notice of Importance of Public Participation in Subsequent Environmental Review

A revised draft EIS will be prepared for comment. The comment period on the revised draft EIS will be 45 days from the date the Environmental Protection Agency publishes the notice of availability in the Federal Register.

The Forest Service believes, at this early stage, it is important to give reviewers notice of several court rulings related to public participation in the environmental review process. First, reviewers of draft EISs must structure their participation in the environmental review of the proposal so that it is meaningful and alerts an agency to the reviewer's position and contentions. Vermont Yankee Nuclear Power Corp. v. NRDC, 435 U.S. 519, 553 (1978).

Also, environmental objections that could be raised at the draft EJS stage, but that are not raised until after completion of the final EIS, may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final EIS.

To assist the Forest Service in identifying and considering issues and concerns on the proposed action, comments on the revised draft EIS should be as specific as possible. It is also helpful if comments refer to specific pages or chapters of the revised draft EIS. Comments may also address the adequacy of the revised draft EIS or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

Authority: 40 CFR 1501.7 and 1508.22; Forest Service Handbook 1909.15, Section 21.

Dated: November 24, 2008.
Alice B. Carlton,
Forest Supervisor.

[FR Doc. E8-28558 Filed 12-3-08; 8:45 am]

BILLING CODE 3410-11-M